NATIONAL SCIENCE FOUNDATION

Advisory Committee for Computer and Information Science and Engineering; Notice of Meeting

In accordance with the Federal Advisory Committee Act (Pub. L. 92-463, as amended), the National Science Foundation (NSF) announces the following meeting:

NAME AND COMMITTEE CODE: Advisory Committee for Computer and Information Science and Engineering (CISE) (1115).

DATE AND TIME:

June 14, 2017; 12:30 p.m. to 5:30 p.m.

June 15, 2017; 8:30 a.m. to 12:30 p.m.

PLACE: National Science Foundation, 4201 Wilson Boulevard, Suite 1235, Arlington, Virginia 22230.

TYPE OF MEETING: OPEN.

CONTACT PERSON: Brenda Williams, National Science Foundation, 4201 Wilson Boulevard, Suite 1105, Arlington, Virginia 22230; Telephone: 703-292-8900.

PURPOSE OF MEETING: To advise NSF on the impact of its policies, programs and activities on the CISE community. To provide advice to the NSF Assistant Director for CISE on issues related to long-range planning, and to form ad hoc subcommittees and working groups to carry out needed studies and tasks.

AGENDA:

Welcome and CISE updates

Program updates from CISE divisions

Discussion of undergraduate education in computer science

NSF Big Ideas discussion

Closing remarks and wrap-up

Dated: May 8, 2017.
Crystal Robinson,
Committee Management Officer.

[FR Doc. 2017-09564 Filed 5-10-17; 8:45 am]

BILLING CODE 7555-01-P